DEPARTMENT OF HOMELAND SECURITY

[Docket No. DHS-2012-0021]

Homeland Security Advisory Council

AGENCY: The Office of Policy, DHS.

ACTION: Notice of partially closed federal advisory committee meeting.

SUMMARY: The Homeland Security Advisory Council (HSAC) will meet in person and members of the public may participate by conference call on May 24, 2012. The meeting will be partially closed to the public.

DATES: The HSAC will meet on Thursday, May 24, 2012, from 9:00 a.m. to 3:00 p.m. EDT. The portion of the meeting from 9:00 a.m. to 12:45 p.m. will be closed to the public. The meeting will be open to the public from 1:00 p.m. to 3:00 p.m.

ADDRESSES: Written comments must be submitted and received by May 22, 2012. Comments must be identified by Docket No. DHS-2012-0021 and may be submitted by one of the following methods:

• Federal eRulemaking Portal: http://www.regulations.gov. Follow the instructions for submitting comments.

• E-mail: HSAC@dhs.gov. Include docket number in the subject line of the message.

• Fax: (202) 282-9207.

• Mail: Homeland Security Advisory Council, Department of Homeland Security, Mailstop 0450, 245 Murray Lane SW., Washington, DC 20528.

Instructions: All submissions received must include the words “Department of Homeland Security” and DHS-2012-0021, the docket number for this action. Comments received will be posted without alteration at http://www.regulations.gov, including any personal information provided.

Docket: For access to the docket to read background documents or comments received by the DHS Homeland Security Advisory Council, go to http://www.regulations.gov.

FOR FURTHER INFORMATION CONTACT: HSAC Staff at hsac@dhs.gov or 202-447-3135.

SUPPLEMENTARY INFORMATION: Notice of this meeting is given under the Federal Advisory Committee Act, 5 U.S.C. App.

The HSAC provides organizationally independent, strategic, timely, specific and actionable advice and recommendations for the consideration of the Secretary of the Department of Homeland Security on matters related to homeland security. The Council is comprised of leaders of local law enforcement, first responders, state and local government, the private sector, and academia.

The HSAC will meet from 9:00 a.m. to 3:00 p.m. The HSAC will receive updates from the U.S. Coast Guard on “Counterterrorism Efforts Around the World” and from the Transportation Security Administration on threats to airport security, receive observations and remarks from DHS senior leadership, and review and deliberate on recommendations from the HSAC Faith-based Security and Communications Advisory Committee.

The HSAC will meet in closed session from 9:00 a.m. to 12:45 p.m. to receive sensitive operational information from senior DHS leadership on threats to our homeland security, border security, U.S. Coast Guard counterterrorism efforts, and an operational overview of the Transportation Security Administration's (TSA) airport security.

Basis for Partial-Closure: In accordance with Section 10(d) of the Federal Advisory Committee Act, it has been determined that the meeting requires closure as the disclosure of the information would not be in the public interest.

The HSAC will receive briefings on domestic and international threats to the homeland from DHS Intelligence and Analysis and other senior leadership, and a briefing on the Transportation Security Administration's (TSA) airport security program that will include lessons learned, and screening techniques associated with airport security. Specifically, there will be material presented regarding the latest viable threats against the United States, and how DHS and other Federal agencies plan to address those threats. Under 5 U.S.C. 552b(c)(7)(E), disclosure of that information could reveal investigative techniques and procedures not generally available to the public, allowing those with interests against the United States to circumvent the law. Additionally, under 5 U.S.C. 552b(c)(9)(B), disclosure of these techniques and procedures could frustrate the successful implementation of protective measures designed to keep our country safe.

Members will also be provided a briefing from the U.S. Coast Guard on counterterrorism efforts being made around the world. Providing this information to the public would provide terrorists with a road map regarding the Department's plan to counter their actions, and thus, allow them to take different actions to avoid counterterrorism efforts. Under 5 U.S.C. 552b(c)(7)(E), disclosure of that information could endanger the life or physical safety of law enforcement personnel. Additionally, under 5 U.S.C. 552b(c)(9)(B), disclosure of this plan could frustrate the successful implementation of measures designed to counter terrorist acts.

Public Participation: Members of the public will be in listen-only mode. The public may register to participate in this HSAC conference call aforementioned procedures. Each individual must provide his or her full legal name, email address and phone number no later than 5:00 p.m. EDT on May 22, 2012, to a staff member of the HSAC via email at HSAC@dhs.gov or via phone at (202) 447-3135. HSAC webcast details and the Faith-based Security and Communications Advisory Committee report will be provided to interested members of the public at the time they register.

Identification of Services for Individuals with Disabilities: For information on facilities or services for individuals with disabilities, or to request special assistance at the meeting, contact the HSAC as soon as possible.

Dated: May 1, 2012.
Becca Sharp,
Executive Director, Homeland Security Advisory Council, DHS.

[FR Doc. 2012-10930 Filed 5-4-12; 8:45 am]

BILLING CODE 9110-9M-P